DEPARTMENT OF THE INTERIOR

National Park Service

Golden Gate National Recreation Area; Notice of Public Open Houses for Calendar Year 2008

Notice is hereby given that public Open Houses of the Golden Gate national Recreation Area (GGNRA) will be scheduled in calendar year 2008 to distribute information and provide public involvement on issues related to management of the GGNRA. These Open Houses are scheduled for the following dates in San Francisco and at locations yet to be determined in San Mateo County and Marin County, California:

Tuesday, February 26, 4 p.m. | Marin County, CA location (TBA).
Tuesday, May 20, 4 p.m. | Park Headquarters, Fort Mason, San Francisco, CA.
Tuesday, September 16, 4 p.m. | Pacifica, CA location (TBA).
Tuesday, November 18, 4 p.m. | Park Headquarters, Fort Mason, San Francisco, CA.

All Open Houses will start at 4 p.m. Information confirming the time and location of all public meetings or cancellations of any meetings can be received by calling the Office of the Public Affairs at (415) 561-4733. Public Open House agendas and all documents for public scoping and public comment on issues listed below can be found on the park Web site at http://www.nps.gov/goga.

Anticipated possible agenda items at meetings during calendar year 2008 include:

• Wetland and Creek Restoration Project at Big Lagoon, Muir Beach.

• Marin Headlands—Fort Baker Transportation Management Plan.

• General Management Plan—Golden Gate National Recreation Area.

• Extension of San Francisco Municipal Railway's Historic Streetcar EIS.

• Dog Management Plan for GGNRA.

• Dias Ridge Trail Rehabilitation and Trail Improvement Project.

• Southern Marin Equestrian Plan.

• Doyle Drive—South Access to the Golden Gate Bridge.

• The San Francisco Bay Trail at Fort Mason.

• The Upper Fort Mason entry at Bay & Franklin Streets.

• Long Range Transportation Plan.

• Headlands Institute Improvements and Expansion Plan.

• USCG Lighthouses Transfer Update.

• Alcatraz Cruises Implementation and Alcatraz Bird Management Updates.

Specific final agendas for these meetings will be made available to the public at least 15 days prior to each meeting and can be received by contacting the Office of the Staff Assistant, Golden Gate National Recreation Area, Building 201, Fort Mason, San Francisco, California 94123 or by calling (415) 561-4733. They are also noticed on the Golden Gate National Recreation Area Web site nps.gov/goga under the section “Public Meetings”.

All Open Houses are open to the public. Sign language interpreters are available by request at least one week prior to a meeting. The TDD phone number for these requests is (415) 556-2766. For copies of the agendas contact the Office of the Staff Assistant, Golden Gate National Recreation Area, Building 201, Fort Mason, San Francisco, California 94123, or call (415) 561-4733.

Dated: December 13, 2007.
Brian O'Neill,
General Superintendent, Golden Gate National Recreation Area.

[FR Doc. 08-332 Filed 1-15-08; 8:45 am]

BILLING CODE 4312-FN-M